DEPARTMENT OF TRANSPORTATION

Federal Aviation Administration

14 CFR Part 39

[Docket No. FAA-2007-27519; Directorate Identifier 2007-NE-09-AD; Amendment 39-15203; AD 2007-19-12]

RIN 2120-AA64

Airworthiness Directives; SICMA Aero Seat 50XXX Passenger Seats

AGENCY: Federal Aviation Administration (FAA), Department of Transportation (DOT).

ACTION: Final rule.

SUMMARY: We are adopting a new airworthiness directive (AD) for the products listed above. This AD results from Mandatory Continuing Airworthiness Information (MCAI) provided by the aviation authority of France to identify and correct an unsafe condition on SICMA Aero Seat 50XXX Passenger Seats. The MCAI states the following:

A release of smoke was experienced in the passenger compartment during flight after an overheating of a reading lights power box of a PN 5039201-4T SICMA seat. An analysis put into evidence that this overheating was caused by a short-circuit produced by the rupture of an electrical power supply component (PN 78147-B). It has been noticed that this power supply is not in compliance with DO 160 environmental standard.

The short-circuiting could result in arcing and consequent smoke or fire. We are proposing this AD to prevent a short-circuit in the power box, which could result in smoke or fire in the airplane cabin.

DATES: This AD becomes effective October 26, 2007. The Director of the Federal Register approved the incorporation by reference of certain publications listed in this AD as of October 26, 2007.

ADDRESSES: The Docket Operations office is located at U.S. Department of Transportation, Docket Operations, M-30, West Building Ground Floor, Room W12-140, 1200 New Jersey Avenue, SE., Washington, DC 20590.

FOR FURTHER INFORMATION CONTACT: Jeffrey Lee, Aerospace Engineer, Boston Aircraft Certification Office, FAA, Engine and Propeller Directorate; 12 New England Executive Park, Burlington, MA 01803; e-mail: Jeffrey.lee@faa.gov; telephone 781-238-7161; fax 781-238-7170.

SUPPLEMENTARY INFORMATION:

Discussion

We issued a notice of proposed rulemaking (NPRM) to amend 14 CFR part 39 to include an AD that would apply to the specified products. That NPRM was published in the Federal Register on April 27, 2007 (72 FR 20963). That NPRM proposed to correct an unsafe condition for the specified products. The Direction Generale De L'Aviation Civile (DGAC) AD states that:

A release of smoke was experienced in the passenger compartment during flight after an overheating of a reading lights power box of a PN 5039201-4T SICMA seat. An analysis put into evidence that this overheating was caused by a short-circuit produced by the rupture of an electrical power supply component (PN 78147-B). It has been noticed that this power supply is not in compliance with DO 160 environmental standard.

The short-circuiting could result in arcing and consequent smoke or fire.

We gave the public the opportunity to participate in developing this AD. We considered the comments received.

Request To Revise the Costs of Compliance

SICMA Aero Seat requests us to change the Costs of Compliance section of the AD to accurately depict the extent of the issue. SICMA has verified the number of affected power boxes installed in seats and the number already retrofitted. SICMA states that only 731 seats don't comply with the AD and we should change the Costs of Compliance to reflect the new numbers. We agree. We changed the Costs to Comply to reflect the reduced number of affected seats.

Conclusion

We reviewed the available data, including the comment[s] received, and determined that air safety and the public interest require adopting the AD with the changes described previously. We determined that these changes will not increase the economic burden on any operator or increase the scope of the AD.

Costs of Compliance

We estimate that this AD will affect about 731 seats installed on airplanes of U.S. registry. We also estimate that it would take about 0.33 work-hour to perform the actions required by this AD and that the average labor rate is $80 per work-hour. Required parts will cost about $3,475 per seat. Based on these figures, we estimate the total cost of this AD to U.S. operators to be $2,559,523. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-19-12 SICMA Aero Seat: Amendment 39-15203. Docket No. FAA-2007-27519; Directorate Identifier 2007-NE-09-AD.

Effective Date

(a) This airworthiness directive (AD) becomes effective October 26, 2007.

Affected ADs

(b) None.

Applicability

(c) This AD applies to SICMA Aero Seat 50XXX passenger seats with part numbers listed in the following Table 1:

Table 1.—Applicability
Single seats Part No. | Twin seats Part No.
50692(xx)-(xx) | 50A71(xx)-(xx)
50442(xx)-(xx) | 50A81(xx)-(xx)
50752(xx)-(xx) | 50401(xx)-(xx)
50402(xx)-(xx) | 50451(xx)-(xx)
50462(xx)-(xx) | 50391(xx)-(xx)
50392(xx)-(xx)
50452(xx)-(xx)
50382(xx)-(xx)
50A02(xx)-(xx)
50A72(xx)-(xx)
50A82(xx)-(xx)

These seats are installed on, but not limited to, Boeing 747, 767, and 777 series, and Airbus A330 and A340 series airplanes.

Reason

(d) Direction Generale De L'Aviation Civile (DGAC) Airworthiness Directive F-2005-135, dated August 3, 2005, states:

A release of smoke was experienced in the passenger compartment during flight after an overheating of a reading lights power box of a PN 5039201-4T SICMA seat. An analysis put into evidence that this overheating was caused by a short-circuit produced by the rupture of an electrical power supply component (PN 78147-B). It has been noticed that this power supply is not in compliance with DO 160 environmental standard.

The short-circuiting could result in arcing and consequent smoke or fire. We are issuing this AD to prevent a short-circuit in the power box, which could result in smoke or fire in the airplane cabin.

Actions and Compliance

(e) Unless already done, within six months from the effective date of this AD, identify the seats part numbers listed in the Table 1 of this AD and replace installed reading lights electrical power supplies with new ones using the instructions of the SICMA Aero Seat Service Bulletin No. 50-25-210, dated June 27, 2005.

FAA AD Differences

(f) None.

Other FAA AD Provisions

(g) Alternative Methods of Compliance (AMOCs): The Manager, Boston Aircraft Certification Office, FAA, has the authority to approve AMOCs for this AD, if requested using the procedures found in 14 CFR 39.19.

Related Information

(h) Refer to DGAC Airworthiness Directive F-2005-135, dated August 3, 2005, (EASA reference number 2005-6123) for related information.

(i) Contact Jeffrey Lee, Aerospace Engineer, Boston Aircraft Certification Office, FAA, Engine and Propeller Directorate; 12 New England Executive Park, Burlington, MA 01803; e-mail: Jeffrey.lee@faa.gov; telephone 781-238-7161; fax 781-238-7170, for more information about this AD.

Material Incorporated by Reference

(j) You must use SICMA Aero Seat Service Bulletin No. 50-25-210, dated June 27, 2005, to do the actions required by this AD, unless the AD specifies otherwise.

(1) The Director of the Federal Register approved the incorporation by reference of this service information under 5 U.S.C. 552(a) and 1 CFR part 51.

(2) For service information identified in this AD, contact SICMA Aero Seat, 7 Rue Lucien Coupet 36100 Issoudun, France; telephone 33 (0) 2 54 03 39 39; telefax 33 (0) 2 54 03 15 16.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on September 11, 2007.
Francis A. Favara,
Manager, Engine and Propeller Directorate, Aircraft Certification Service.

[FR Doc. E7-18431 Filed 9-20-07; 8:45 am]

BILLING CODE 4910-13-P